Executive Order 13784 of March 29, 2017

Establishing the President's Commission on Combating Drug Addiction and the Opioid Crisis

By the authority vested in me as President by the Constitution and the laws of the United States of America, it is hereby ordered as follows:

Section 1. Policy. It shall be the policy of the executive branch to combat the scourge of drug abuse, addiction, and overdose (drug addiction), including opioid abuse, addiction, and overdose (opioid crisis). This public health crisis was responsible for more than 50,000 deaths in 2015 alone, most of which involved an opioid, and has caused families and communities across America to endure significant pain, suffering, and financial harm.

Sec. 2. Establishment of Commission. There is established the President's Commission on Combating Drug Addiction and the Opioid Crisis (Commission).

Sec. 3. Membership of Commission. (a) The Commission shall be composed of members designated or appointed by the President.

(b) The members of the Commission shall be selected so that membership is fairly balanced in terms of the points of view represented and the functions to be performed by the Commission.

(c) The President shall designate the Chair of the Commission (Chair) from among the Commission's members.

Sec. 4. Mission of Commission. The mission of the Commission shall be to study the scope and effectiveness of the Federal response to drug addiction and the opioid crisis described in section 1 of this order and to make recommendations to the President for improving that response. The Commission shall:

(a) identify and describe existing Federal funding used to combat drug addiction and the opioid crisis;

(b) assess the availability and accessibility of drug addiction treatment services and overdose reversal throughout the country and identify areas that are underserved;

(c) identify and report on best practices for addiction prevention, including healthcare provider education and evaluation of prescription practices, and the use and effectiveness of State prescription drug monitoring programs;

(d) review the literature evaluating the effectiveness of educational messages for youth and adults with respect to prescription and illicit opioids;

(e) identify and evaluate existing Federal programs to prevent and treat drug addiction for their scope and effectiveness, and make recommendations for improving these programs; and

(f) make recommendations to the President for improving the Federal response to drug addiction and the opioid crisis.

Sec. 5. Administration of Commission. (a) The Office of National Drug Control Policy (ONDCP) shall, to the extent permitted by law, provide administrative support for the Commission.

(b) Members of the Commission shall serve without any additional compensation for their work on the Commission. Members of the Commission appointed from among private citizens of the United States, while engaged in the work of the Commission, may be allowed travel expenses, including per diem in lieu of subsistence, to the extent permitted by law for persons serving intermittently in Government service (5 U.S.C. 5701-5707), consistent with the availability of funds.

(c) Insofar as the Federal Advisory Committee Act, as amended (5 U.S.C. App.) (Act), may apply to the Commission, any functions of the President under that Act, except for those in section 6 and section 14 of that Act, shall be performed by the Director of the ONDCP, in accordance with the guidelines that have been issued by the Administrator of General Services.

Sec. 6. Funding of Commission. The ONDCP shall, to the extent permitted by law and consistent with the need for funding determined by the President, make funds appropriated to the ONDCP available to pay the costs of the activities of the Commission.

Sec. 7. Reports of Commission. Within 90 days of the date of this order, the Commission shall submit to the President a report on its interim recommendations regarding how the Federal Government can address drug addiction and the opioid crisis described in section 1 of this order, and shall submit a report containing its final findings and recommendations by October 1, 2017, unless the Chair provides written notice to the President that an extension is necessary.

Sec. 8. Termination of Commission. The Commission shall terminate 30 days after submitting its final report, unless extended by the President prior to that date.

Sec. 9. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 29, 2017.

[FR Doc. 2017-06716

Filed 3-31-17; 11:15 am]

Billing code 3295-F7-P